DEPARTMENT OF COMMERCE

National Oceanic and Atmospheric Administration

50 CFR Part 679

[Docket No. 241017-0274]

RIN 0648-BM77

Fisheries of the Exclusive Economic Zone; Authorizing Hook-and-Line Catcher/Processors To Use Longline Pot Gear in the Bering Sea Greenland Turbot Fishery

AGENCY: National Marine Fisheries Service (NMFS), National Oceanic and Atmospheric Administration (NOAA), Commerce.

ACTION: Proposed rule; request for comments.

SUMMARY: NMFS proposes regulations that would authorize hook-and-line catcher/processors (C/Ps) to use longline pot gear when directed fishing for Greenland turbot in the Bering Sea (BS) subarea of the Bering Sea and Aleutian Islands (BSAI). This proposed rule is necessary to improve efficiency, provide economic benefits for the hook-and-line C/P sector, and minimize potential fishery interactions with killer whales. This proposed rule would promote the goals and objectives of the Magnuson-Stevens Fishery Conservation and Management Act (Magnuson-Stevens Act), the Fishery Management Plan (FMP) for Groundfish of the Bering Sea and Aleutian Islands Management Area (BSAI FMP) and other applicable laws.

DATES: Submit comments on or before November 22, 2024.

ADDRESSES: A plain language summary of this proposed rule is available at https://www.regulations.gov/docket/NOAA-NMFS-2023-0156. You may submit comments on this document, identified by NOAA-NMFS-2023-0156 by any of the following methods:

• Electronic Submission: Submit all electronic public comments via the Federal e-Rulemaking Portal. Visit https://www.regulations.gov and type NOAA-NMFS-2023-0156 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of the Environmental Assessment and Regulatory Impact Review (RIR) (collectively “the Analysis”) prepared for this action are available on https://www.regulations.gov or from the NMFS Alaska Region website at https://www.fisheries.noaa.gov/region/alaska.

Written comments regarding the burden-hour estimates or other aspects of the collection-of-information requirements contained in this proposed rule may be submitted to NMFS and on https://www.reginfo.gov/public/do/PRAMain. Find this particular information collection by selecting “Currently under 30-day Review—Open for Public Comments,” or by using the Search function.

FOR FURTHER INFORMATION CONTACT: Andrew Olson, 907-586-7228, andrew.olson@noaa.gov.

SUPPLEMENTARY INFORMATION: NMFS manages the groundfish fisheries of the BSAI under the BSAI FMP. The North Pacific Fishery Management Council (Council) prepared, and the Secretary of Commerce (Secretary) approved, the BSAI FMP under the authority of the Magnuson-Stevens Act (16 U.S.C. 1801 et seq.). Regulations governing U.S. fisheries and implementing the BSAI FMP appear at 50 CFR parts 600 and 679. The Council and NMFS manage Greenland turbot (Reinhardtius hippoglossoides) as a groundfish species under the BSAI FMP. Section 3.4 of BSAI FMP identifies authorized gear types for groundfish fisheries as trawls, hook-and-line, pots, jigs, and other gear as defined in regulations. This section also states that further restrictions on gear which are necessary for conservation and management of fishery resources and which are consistent with the goals and objectives of the FMP are found at 50 CFR part 679.

Background

The following background sections describe (1) the Greenland turbot directed fishery; (2) authorized gear; (3) whale depredation; and (4) groundfish maximum retainable amounts (MRAs).

Greenland Turbot Directed Fishery

The directed fishery for Greenland turbot is managed under the BSAI FMP and is divided into two fishing subareas: (1) the BS; and (2) the Aleutian Islands (AI). Under the BSAI FMP, the acceptable biological catch (ABC) of Greenland turbot is allocated between the BS and AI subareas based on the proportion of biomass in each area. Annually, in the BSAI groundfish harvest specifications, NMFS establishes a total allowable catch (TAC) for Greenland turbot that is apportioned between the BS and AI subareas based on the TAC recommended by the Council (89 FR 17287, March 11, 2024). Under § 679.23(e)(1), directed fishing for Greenland turbot is authorized from May 1 through December 31 and NMFS closes the fishery if the TAC is reached prior to the season end date. The Greenland turbot directed fishery is a relatively small fishery with low TACs and the area where the fishery occurs in the BS and AI subareas (as described in section 3.3.2 of the Analysis (see ADDRESSES section)) is very remote, making it difficult to prosecute the fishery.

Under the Western Alaska Community Development Quota (CDQ) Program, § 679.20(b)(1)(ii)(D) requires that NMFS allocate 10.7 percent of the BS subarea Greenland turbot TAC to the CDQ reserve. CDQ allocations of BS subarea Greenland turbot may be fished by either trawl or nontrawl vessels. CDQ groups may arrange for the CDQ reserve to be fished by companies or on vessels in which they have an ownership stake, or they might make the CDQ reserve available to be fished by any permitted vessel and receive a royalty permit in return as described in section 3.3.1 of the Analysis (see ADDRESSES section). CDQ fishing for Greenland turbot is authorized from January 1 through December 31 (§ 679.23(e)(4)(iii)).

Vessels participating in the directed fishery for Greenland turbot in the BS subarea are required to have a groundfish license limitation program (LLP) license with the necessary gear (i.e., nontrawl, trawl, or both gear types) and BS subarea endorsements (see § 679.4(k)(1)(i)). The directed fishery for Greenland turbot is prosecuted by the trawl and nontrawl sectors and is mainly concentrated in the BS subarea, which is the focus of this proposed rule. The Greenland turbot fishery in the AI subarea has been closed to directed fishing in all years from 2013 through 2024 due to relatively low TACs. Additionally, several factors have contributed to low interest in developing this fishery such as lower local abundance, poorer fish quality resulting in lower value products, and higher operating costs.

Participants in the Greenland turbot trawl fishery consist exclusively of Amendment 80 vessels. The Amendment 80 Program allocated several BSAI non-pollock trawl groundfish species among trawl fishery sectors, facilitated the formation of harvesting cooperatives in the non-American Fisheries Act (non-AFA) trawl C/P sector, and established a limited access privilege program for the non-AFA trawl C/P sector (72 FR 52668, September 14, 2007). This proposed rule does not change regulations applicable to the Amendment 80 Program.

The majority of participants in the nontrawl Greenland turbot fishery are hook-and-line C/P vessels. Hook-and-line C/P vessels, as defined in the regulations at § 679.2, are vessels named on LLP licenses that are noninterim and transferable, or that are interim and subsequently become noninterim and transferable, and that are endorsed for BS subarea or AI subarea C/P fishing activity, C/P Pacific cod (Gadus macrocephalus), and hook-and-line gear. As a broad category of vessels, hook-and-line C/Ps primarily target Pacific cod in the CDQ and non-CDQ fisheries in the BSAI, and may also participate in the Greenland turbot and sablefish fisheries, as well as groundfish fisheries in the Gulf of Alaska (GOA). Catcher vessels (CVs), on the other hand, have rarely targeted Greenland turbot in the BS subarea. This is due to the remoteness of the area where the fishery occurs and characteristics of Greenland turbot flesh that would degrade and lose value in the time required to make a shoreside landing, as CVs are vessels used for catching fish and do not process fish on board. Vessel LLP licenses have endorsements for operation type and are either CV or C/P. A C/V endorsement allows a vessel to harvest, but not process fish on board, while a C/P endorsement allows a vessel to harvest and on board processing.

Most hook-and-line C/P vessels are members of the Freezer Longline Conservation Cooperative (FLCC). The FLCC is a voluntary cooperative represented by the Freezer Longline Coalition that comprises 36 LLP license holders endorsed for BS or AI subarea hook-and-line C/P fishing for Pacific cod. Cooperatives allow fishery participants to coordinate their collective fishing operations, and benefit from the resulting efficiencies. Since the formation of the FLCC in 2010, the sector has operated what could be considered a “year-round” Pacific cod fishery. Historically, only a small portion of these LLP licenses endorsed for BS or AI subarea hook-and-line C/P fishing for Pacific cod have targeted Greenland turbot in the BS subarea, and, since 2010, the number has not surpassed nine vessels.

The Amendment 80 cooperatives and FLCC coordinate to harvest the BS subarea Greenland turbot non-CDQ TAC using a voluntary, non-regulatory agreement to divide the available TAC between the trawl and nontrawl sectors. The specific terms of the agreement are not publicly disclosed or shared with NMFS; however, NMFS understands that the TAC is apportioned between the trawl and nontrawl sectors to maximize utilization and account for incidental catch in other fisheries. NMFS understands that the agreement was developed in response to competition between the sectors and the need for NMFS to manage the fishery conservatively, due to bycatch of Greenland turbot in trawl fisheries targeting arrowtooth (Atheresthes stomias) and Kamchatka flounder (A. evermanni) that resulted in shorter seasons and early closures of the Greenland turbot directed fishery.

Authorized Gear

Gear endorsements for BSAI groundfish LLP licenses are either for trawl, nontrawl, or both gear types (see § 679.4(k)(3)(iv)). Nontrawl gear is any legal gear type, other than trawl gear, used to harvest groundfish under the LLP (see § 679.4(k)(3)(iv)(F)). The use of nontrawl gear is limited to longline and pot gear, with longline gear encompassing hook-and-line gear, and pot gear including both longline pot and pot-and-line gear (e.g., single pot). Longline pot gear is pot gear with two or more pots attached to a stationary, buoyed, and anchored line while pot-and-line gear is pot gear with a stationary, buoyed line with a single pot attached. Although pot-and-line gear is currently authorized for the directed fishery for Greenland turbot in the BS subarea, pot-and-line gear has not been utilized due to the inefficiency of setting a single pot at the depths and locations where the fishery occurs. Pot gear, which includes longline pot and pot-and-line gear, is required to have a biodegradable panel that measures at least 18 inches in length, parallel to, and within 6 inches of, the bottom of the pot, and that is sewn with untreated cotton thread no larger than No. 30. This requirement ensures the release of caught fish if pot gear is lost or becomes unretrievable. Collapsible pots, also called slinky pots, are used as longline pot gear in the IFQ and CDQ halibut (Hippoglossus stenolepis) and sablefish (Anoplopoma fimbria) fisheries. Collapsible pots have an exception to the placement of the biodegradable panel when used in these fisheries, whereby the panel may be placed anywhere on the mesh of the pot, which is at least 18 inches (45.72 cm) in length and is made from untreated cotton thread of no larger size than No. 30, or wrapped on the pot door, provided the pot door has a minimum diameter of 18 inches and is sewn with untreated cotton thread no larger than No. 30. Gear limitations at § 679.24(b) require any person using longline pot gear to treat any catch of groundfish species as prohibited species unless there is an explicit exception that allows the use of this gear type by area and fishery. The exceptions to the longline pot gear limitation set forth in § 679.24(b)(1) include fishing in the AI subarea, fishing for sablefish in the BS subarea, fishing for sablefish individual fishing quota (IFQ) in the GOA, and while fishing for IFQ or CDQ halibut in the BSAI (§ 679.24(b)). For additional information on authorized fishing gear including trawl, nontrawl, longline, hook-and-line, pot-and-line, and longline pot gear see the definition of “Authorized fishing gear” at § 679.2.

Regulations at § 679.24(a) require any vessel fishing with hook-and-line, longline pot, and pot-and-line gear to mark all buoys carried on board or used with the vessel's federal fisheries permit (FFP) number or Alaska Department of Fish and Game (ADF&G) vessel registration number. Buoy markings have minimum text width and height specifications and must be of contrasting coloring so markings are clearly visible above the water line. Vessel operators deploying longline pot gear to fish IFQ sablefish in the GOA are required to have an additional hard buoy ball in the buoy cluster attached and marked with the initials “LP” for “Longline Pot” to distinguish buoys for hook-and-line and pot-and-line gear from buoys for longline pot gear (§ 679.24(a)).

A pot used to fish for groundfish is required to have tunnel openings no wider and no higher than 9 inches as defined in paragraph (15)(ii) of the definition of “Authorized fishing gear” at § 679.2. In 2020, the Council recommended and NMFS implemented an exception to the 9-inch tunnel opening restriction for halibut, which is also a large flatfish species, under amendment 118 to the BSAI FMP (85 FR 840, January 8, 2020). This action was intended to improve capture efficiency in legal sized halibut using pot gear when fishing for IFQ and CDQ halibut and IFQ and CDQ sablefish in the BSAI or sablefish IFQ in the GOA when halibut retention is required, decrease the potential for discards, and whale depredation. For additional information on longline pot gear restrictions, see “Gear Limitations” at § 679.24(b).

Whale Depredation

Depredation by killer whales (Orcinus orca) has been increasing, preventing hook-and-line C/P vessels from participating in the directed fishery for Greenland turbot in the BS subarea. Whale depredation occurs when whales remove or damage fish during hauling or feed on fish being caught or discarded. Whale depredation negatively impacts fishing fleets by reducing catch rates and increasing operational costs. Additionally, depredation has negative consequences for whales through increased risk of vessels strikes, gear entanglements, and altered foraging strategies. Depredation by sperm and killer whales on hook-and-line gear is a common occurrence for the sablefish IFQ fishery in the GOA and BSAI where whales can completely remove or damage sablefish captured on hooks before the gear is retrieved. Killer whale depredation resulted in the decline in participation by hook-and-line C/P vessels in the directed fishery for Greenland turbot in the BS subarea beginning in 2018, and the complete absence of participation in 2021, 2022, and 2023, due to operational challenges posed by whale depredation that made fishing uneconomical as described in section 4 of the Analysis (see ADDRESSES section). The Council recommended and NMFS allowed the use of longline pot gear in the GOA sablefish IFQ fishery to improve efficiency and improve economic benefits for the sablefish IFQ fleet impacted by whale depredation (amendment 101 to the GOA FMP; 81 FR 95435, December 28, 2016). For more information about killer whale depredation on hook-and-line C/Ps in the BS subarea, refer to section 3.4 of the Analysis (see ADDRESSES section).

Groundfish Maximum Retainable Amounts (MRAs)

An MRA limits the retention of incidental catch species that are caught while targeting other species or species groups—known as basis species—open to directed fishing (§ 679.20(e)). Under § 679.2, the definition of “directed fishing” means any fishing activity that results in the retention of an amount of a species or species group on board a vessel that is greater than the MRA for that species or species group as calculated under § 679.20(e). MRAs establish retainable percentages to allow for the retention of incidental catch, preventing regulatory discards and increasing the utilization of incidental catch of a species when the fishery is closed to directed fishing. MRAs help manage the harvest of a groundfish species within its annual TAC. Once the TAC for a species is reached, retention of that species is prohibited, and any further catch must be discarded. To ensure sufficient amounts of the TAC are available for incidental catch in other fisheries, NMFS closes a species to directed fishing before the entire TAC is harvested.

Gear limitations require any person using longline pot gear to treat any catch of groundfish species as a prohibited species unless there is an explicit exception that allows the use of this gear type by area and fishery (§ 679.24(b)(1)). Under current regulations, longline pot gear is allowed in the BSAI for directed fishing for sablefish in the BS subarea, which means retaining sablefish on board a vessel in an amount greater than the MRA. The MRA for sablefish is currently set at 15 percent when the basis species is Greenland turbot in the BSAI (Table 11 to part 679). If a vessel is directed fishing for Greenland turbot, retention of sablefish would be allowed only if the vessel held enough sablefish IFQ to possess more than the 15 percent MRA limit, otherwise sablefish may not be retained as described in section 6.3 of the Analysis (see ADDRESSES section). A vessel may retain Greenland turbot up to the MRA in other groundfish fisheries where longline pot gear is authorized unless retention of Greenland turbot is prohibited because a TAC has been met.

Need for Action

This proposed rule would allow hook-and-line C/P vessels to use longline pot gear to directed fish for Greenland turbot in the BS subarea. This proposed rule is needed to mitigate impacts of killer whale depredation and increase operational flexibility and efficiency for hook-and-line C/P vessels who have historically participated in the directed fishery for Greenland turbot using hook-and-line gear in the BS subarea. Since 2020, killer whale depredation has increased, reducing or preventing participation in the directed fishery for Greenland turbot in the BS subarea by hook-and-line C/P vessels. Using longline pot gear could effectively mitigate killer whale depredation in the directed fishery for Greenland turbot in the BS subarea and improve efficiency and economic benefits for hook-and-line C/P vessels, as it would be more difficult for whales to remove or damage fish enclosed in pots. Greenland turbot is a large flatfish species and this proposed rule would also add an exception to the 9-inch tunnel opening restriction for longline pot gear to remove a potential impediment for selecting larger fish, and improve fishing efficiency, when participating in the directed fishery for Greenland turbot in the BS subarea.

In April 2021, the Council tasked staff with preparing a discussion paper on authorizing longline pot gear as a legal gear type for the directed fishery for Greenland turbot in the BS subarea. This request responded to the Council Advisory Panel recommendation that longline pot gear could effectively mitigate killer whale depredation of Greenland turbot on hook-and-line gear. The Council reviewed the discussion paper at its February 2022 meeting, developing an initial purpose and need statement and a single action alternative that would authorize longline pot gear for any LLP license holder with BS nontrawl endorsements. At that time, the Council also introduced an option to exempt the 9-inch maximum pot tunnel opening limitation when fishing for Greenland turbot in the BS subarea.

In October 2022, the Council considered the initial review of this action and heard public testimony, modifying the purpose and need statement to evaluate the potential disruption to historic participants in the nontrawl Greenland turbot fishery if new entrants with no previous activity in the fishery were to participate. The Council added an alternative that would narrow the action to authorize longline pot gear in the directed fishery for Greenland turbot in the BS subarea only for hook-and-line C/P vessels as defined in regulation (§ 679.2). In April 2023, the Council recommended that NMFS authorize the use of longline pot gear and remove the 9-inch pot tunnel opening restriction for hook-and-line C/P vessels participating in the directed fishery for Greenland turbot in the BS subarea. The other revisions included in this action were presented in the Analysis (see ADDRESSES section) as necessary to implement the preferred alternative.

This action applies exclusively to vessels whose LLP licenses qualify them as participants in the hook-and-line C/P sector who have historically participated in and comprise the nontrawl sector directed fishery for Greenland turbot in the BS subarea. This action is intended to increase operational flexibility for hook-and-line C/P vessels in the BS subarea, mitigate the impacts of whale depredation, and allow the fishery to resume. The directed fishery for Greenland turbot in the BS subarea is a small, remote fishery with low TACs, making it viable primarily for hook-and-line C/Ps. Due to the remoteness of the fishing grounds and the nature of Greenland turbot flesh, which can degrade and lose value during the time needed for shoreside landings, participation by CVs is unlikely. This action is not intended to create opportunities for new entrants without previous history in the fishery, as their participation could disrupt the established hook-and-line C/P and Amendment 80 sectors. New entrants might also pose challenges to maintaining a fishing pace that allows NMFS to effectively manage the fishery, especially in environments with moderate to low TACs. However, this action does not preclude CVs from participating in the Greenland turbot fishery in the BS subarea, as they can still participate in the fishery with hook-and-line or pot-and-line gear.

This Proposed Rule

This proposed rule would revise regulations at 50 CFR part 679 to: (1) allow hook-and-line C/P vessels to use longline pot gear for the directed fishery for Greenland turbot in the BS subarea; (2) add the directed fishery for Greenland turbot in the BS subarea to the collapsible pot exception; (3) add an exception to the 9-inch maximum pot tunnel opening limitation for longline pot gear when participating in the directed fishery for Greenland turbot in the BS subarea; and (4) clarify MRA retention requirements for longline pot gear with the authorization of this gear type for the directed fishery for Greenland turbot in the BS subarea. The following sections describe the proposed changes to the regulations.

Authorize Longline Pot Gear

This proposed rule would amend regulations at § 679.24(b)(1) to allow hook-and-line C/P vessels to use longline pot gear to retain groundfish species while directed fishing for Greenland turbot in the BS subarea. This proposed rule would also amend longline pot gear for gear marking requirements at § 679.24(a)(3) and recordkeeping and reporting requirements at § 679.5(c)(3)(v)(G)(2). These modifications would expand the use of longline pot gear to include directed fishing for Greenland turbot in the BS subarea, alongside the areas and fisheries where this gear type is already authorized and add associated gear marking, recordkeeping, and reporting requirements consistent with those already applicable when using longline pot gear in the GOA.

Gear marking requirements would be added for vessels using longline pot gear to directed fish for Greenland turbot in the BS subarea at § 679.24(a)(3). These changes would require that each end of longline pot gear set deployed must have one hard buoy ball attached and marked with the capital letters “LP” to differentiate between whether a set is hook-and-line or longline pot gear in accordance with marking requirements specified at § 679.24(a)(2). Regulations at § 679.5(c)(3)(v)(G)(2) governing the logbook requirements for longline pot gear would be modified to require that the length of the longline pot set, size of pots used, the spacing between pots on a set, and the quantity of pots deployed and lost be recorded on a logbook by vessels while directed fishing for Greenland turbot in the BS subarea. The use of longline pot gear continues to expand, and these changes are intended to improve regulatory consistency, monitoring, and enforcement with the addition of longline pot gear being authorized for hook-and-line C/Ps participating in the directed fishery for Greenland turbot in the BS subarea.

Collapsible Pot Exception

This proposed rule would add the directed fishery for Greenland turbot in the BS subarea to the current list of fisheries authorized to place a biodegradable panel anywhere on the mesh of a collapsible pot, also called a slinky pot, as specified in paragraph (15)(i)(A) of the definition of “Authorized fishing gear” at § 679.2. Collapsible pot gear must have a biodegradable panel placed anywhere on the mesh using untreated cotton thread no longer than No. 30, which is at least 18 inches in length, or may be wrapped on the door of a pot that is at least 18 inches in diameter. Including Greenland turbot in the BS subarea in the collapsible pot exception is necessary to allow vessels to use this type of pot under the proposed rule authorizing longline pot gear. This change will facilitate the effective escapement of fish if a pot is lost and will standardize gear requirements for pot gear.

Tunnel Opening Exception for Greenland Turbot

This proposed rule would add an exception to the longline pot tunnel opening restriction specified in paragraph (15)(ii) of the definition of “Authorized fishing gear” at § 679.2 to allow the use of pots with tunnel openings larger than 9 inches when directed fishing Greenland turbot in the BS subarea. This is necessary to ensure that the pot gear used in this fishery is not size-selective for smaller Greenland turbot and allow for larger fish to enter the pots. Additionally, this proposed rule would move the current regulatory paragraph that specifies the existing halibut retention exception from paragraph (15)(iii) to paragraph (15)(ii) under the definition of “Authorized fishing gear” at § 679.2 to improve regulatory clarity and organization for fisheries that have exceptions to the pot tunnel opening restriction.

Longline Pot Gear MRAs

Removal of the gear restriction that prevents retention of groundfish species by vessels using longline pot gear in the BS subarea when directed fishing for Greenland turbot would also allow these vessels to retain up to the MRA of other groundfish species unless retention is prohibited or required by other applicable law. This proposed rule would add a paragraph at § 679.20(e)(3)(vii) to clarify that vessels using longline pot gear can retain groundfish up to the MRA.

Classification

Pursuant to section 304(b)(1)(A) of the Magnuson-Stevens Act, the NMFS Assistant Administrator has determined that this proposed rule is consistent with the BSAI FMP, other provisions of the Magnuson-Stevens Act, and other applicable law, subject to further consideration after public comment.

NMFS prepared an Environmental Assessment for this regulatory amendment that discusses the impact on the environment as a result of this rule. The proposed rule is considered to have minimal impact due to its narrow scope and alignment with the existing fishery management frame-work and is unlikely to significantly affect the environment or species beyond the status quo. A copy of the Environmental Assessment is available from the NMFS (see ADDRESSES section).

This proposed rule has been determined to be not significant for purposes of Executive Order 12866.

Regulatory Impact Review

A Regulatory Impact Review was prepared to assess the costs and benefits of available regulatory alternatives. A copy of this Analysis is available from NMFS (see ADDRESSES section). The Council recommended and NMFS proposes these regulations based on those measures that maximize net benefits to the Nation.

Certification Under the Regulatory Flexibility Act

The Chief Counsel for Regulation of the Department of Commerce certified to the Chief Counsel for Advocacy of the Small Business Administration that this proposed rule, if adopted, would not have a significant economic impact on a substantial number of small entities. NMFS requests comments on this certification for this proposed rule. The factual basis for this determination is as follows:

This proposed rule would allow owners and operators of hook-and-line C/P vessels to use longline pot gear to directed fish for Greenland turbot in the BS subarea. A discussion of the potential impacts of the proposed action is further discussed in section 4 of the Analysis (see ADDRESSES section).

For Regulatory Flexibility Act (RFA) purposes only, NMFS established a small business size standard for businesses, including their affiliates, whose primary industry is commercial fishing (see 50 CFR 200.2). A business primarily engaged in commercial fishing (North American Industry Classification System (NAICS) code 11411) is classified as a small business if it is independently owned and operated, is not dominant in its field of operation (including its affiliates), and has combined annual receipts less than $11 million for all its affiliated operations worldwide. The RFA also requires consideration of affiliations between entities for the purpose of assessing whether an entity is classified as small. If business entities are affiliated, then the threshold for identifying small entities is applied to the group of affiliated entities rather than on an individual entity basis. NMFS has determined that vessels that are members of a fishing cooperative are affiliated when classifying them for purposes of the RFA. During the 2012 through 2022 period, there were 23 active vessels that had participated in the BSAI groundfish fishery as a C/P using hook-and-line or pot gear. None of those vessels are considered small entities due to cooperative affiliation. For the purpose of this RFA analysis, NMFS believes that all of the entities directly regulated under the Council's preferred alternative are large entities.

This action increases flexibility and operational efficiency. It is anticipated that this action would improve cost-efficiencies for directly regulated entities to a marginal degree. This action allows a different gear type that could make the nontrawl fishery more successful to the extent they choose to use that gear. Use of the gear is voluntary and not mandatory. As a voluntary efficiency, entities would participate, and thus be directly regulated, but only if there is a net benefit to doing so.

For these reasons, this action is not expected to have an adverse economic impact on a substantial number of small entities, and, as a result, an initial regulatory flexibility analysis is not required, and none has been prepared.

Collection-of-Information Requirements

This proposed rule contains collection-of-information requirements subject to review and approval by the Office of Management and Budget (OMB) under the Paperwork Reduction Act (PRA). This proposed rule would revise the existing collection-of-information requirements for OMB Control Number 0648-0515 (Alaska Interagency Electronic Reporting System) and revise and extend by 3 years the existing requirements for OMB Control Number 0648-0353 (Alaska Region Gear Identification Requirements). The proposed changes to the collections are described below. The public reporting burden estimates provided below include the time for reviewing instructions, searching existing data sources, gathering and maintaining the data needed, and completing and reviewing the collection of information.

a. OMB Control Number 0648-0353

NMFS proposes to revise and extend for 3 years the existing requirements for OMB Control Number 0648-0353, which contains the gear identification requirements for the groundfish fisheries in the Exclusive Economic Zone off Alaska. The information collection for 0648-0353 would be revised because this proposed rule would require that each end of a set of longline pot gear deployed to directed fish for Greenland turbot in the BS subarea have one hard buoy ball attached marked with “LP” to distinguish this gear type from others authorized for this fishery. This revision adds an estimated nine respondents for marking longline pot gear. Public reporting burden is estimated to average 30 minutes or less per individual response to collect the information and paint it on a buoy. The cost to mark buoys is estimated at $100 per respondent, which covers materials such as paint, paintbrushes, permanent ink applicator, and stencils. Subject to public comment, no changes are made to the estimated burden or cost because the estimates allow for differences in the time and cost to mark the buoys.

b. OMB Control Number 0648-0515

The information collection for 0648-0515 would be revised because this proposed rule would add the directed fishery for Greenland turbot in the BS subarea to the recordkeeping and reporting requirements specific to longline pot gear. Vessel operators would be required to enter in the logbook the length of a longline pot set, pot size and spacing, number of pots deployed, and the number of pots lost when the set is retrieved. The hook-and-line C/Ps currently use the C/P electronic logbook. This revision does not change the respondents, responses, burden hours, or costs for the C/P electronic logbook. Public reporting burden is estimated to average 15 minutes per individual response for the C/P electronic logbook. The current burden estimate for this logbook allows for differences in the time and cost needed to complete and submit the logbook.

Public Comment on Collection-of-Information Requirements

NMFS seeks public comment regarding, but not limited to, the following: (1) whether this proposed collection of information is necessary for the proper performance of the functions of the agency, including whether the information shall have practical utility; (2) the accuracy of the burden estimate; (3) ways to enhance the quality, utility, and clarity of the information to be collected; and (4) ways to minimize the burden of the collection of information, including through the use of automated collection techniques or other forms of information technology. Submit comments on these or any other aspects of the collections of information at https://www.reginfo.gov/public/do/PRAMain.

Notwithstanding any other provision of law, no person is required to respond to, and no person shall be subject to penalty for failure to comply with, a collection of information subject to the requirements of the PRA, unless that collection of information displays a currently valid OMB control number.

List of Subjects in 50 CFR Part 679

Alaska, Fisheries, Reporting and recordkeeping requirements.

Dated: October 18, 2024.
Samuel D. Rauch III,
Deputy Assistant Administrator for Regulatory Programs, National Marine Fisheries Service.

For the reasons set out in the preamble, NMFS proposes to amend 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.2 amend the definition for “Authorized fishing gear” by revising paragraph (15)(i)(A), redesignating paragraph (15)(iii) as paragraph (15)(ii)(A) and adding paragraph (15)(ii)(B). The revision and additions read as follows:

§ 679.2 Definitions.

* * * * *

Authorized fishing gear * * *

* * * * *

(15) * * *

(i) * * *

(A) Collapsible pot exception. A collapsible pot (e.g., slinky pot) used to fish for halibut IFQ or CDQ, or sablefish IFQ or CDQ, in accordance with paragraph (4) of this definition, or used to directed fish for Greenland turbot in the Bering Sea subarea of the BSAI, is exempt from the biodegradable panel placement requirements described in paragraph (15)(i) of this definition. Instead, a collapsible pot must have either a biodegradable panel placed anywhere on the mesh of the collapsible pot, which is at least 18 inches (45.72 cm) in length and is made from untreated cotton thread of no larger size than No. 30, or one door on the pot must measure at least 18 inches (45.72 cm) in diameter and be wrapped with untreated cotton thread of no larger size than No. 30.

* * * * *

(ii) * * *

(B) Greenland turbot exception. If directed fishing for Greenland turbot in the Bering Sea subarea of the BSAI with longline pots, the tunnel opening requirement under paragraph 15(ii) of this definition does not apply.

* * * * *

3. Revise § 679.5 paragraph (c)(3)(v)(G)(2)(i) and (ii) to read as follows:

§ 679.5 Recordkeeping and reporting (R&R).

* * * * *

(c) * * *

(3) * * *

(v) * * *

(G) * * *

(2) * * *

(i) If using longline pot gear in the GOA or while directed fishing for Greenland turbot in the Bering Sea subarea of the BSAI, enter the length of longline pot set to the nearest foot, the size of pot in inches (width by length by height or diameter), and spacing of pots to the nearest foot.

(ii) If using longline pot gear in the GOA or while directed fishing for Greenland turbot in the Bering Sea subarea of the BSAI, enter the number of pots deployed in each set (see paragraph (c)(3)(vi)(F) of this section) and the number of pots lost when the set is retrieved (optional, but may be required by IPHC regulations see §§ 300.60 through 300.65 of this title).

* * * * *

4. Amend § 679.20 by adding paragraph (e)(3)(vii) to read as follows:

§ 679.20 General limitations.

* * * * *

(e) * * *

(3) * * *

(vii) For vessels using longline pot gear pursuant to § 679.24(b), catch may be retained up to the maximum retainable amount unless retention is prohibited or required by other applicable laws.

* * * * *

5. Amend § 679.24 by revising paragraph (a)(3) and adding paragraph (b)(1)(v) to read as follows:

§ 679.24 Gear limitations.

* * * * *

(a) * * *

(3) Each end of a set of longline pot gear deployed to fish IFQ sablefish in the GOA, and each end of a set of longline pot gear deployed to fish for Greenland turbot in the Bering Sea subarea of the BSAI, must have one hard buoy ball attached and marked with the capital letters “LP” in accordance with paragraph (a)(2) of this section.

* * * * *

(b) * * *

(1) * * *

(v) While directed fishing for Greenland turbot in the Bering Sea subarea of the BSAI by hook-and-line catcher/processors.

* * * * *

[FR Doc. 2024-24544 Filed 10-22-24; 8:45 am]

BILLING CODE 3510-22-P